MARINE MAMMAL COMMISSION

Sunshine Act Meeting Notice

TIME AND DATE: The Marine Mammal Commission and its Committee of Scientific Advisors on Marine Mammals will meet on Tuesday, 28 August 2007, from 10:15 a.m. to 6 p.m.; Wednesday, 29 August 2007, from 8 a.m. to 6 p.m.; and Thursday, 30 August 2007, from 8 a.m. to 3 p.m. The Commission and the Committee will meet in executive session on Tuesday, 28 August 2007, from 8 a.m. to 9:45 a.m.

PLACE: Hilton Vancouver Washington, 301 West 6th Street, Vancouver, WA 98660; telephone: 360-828-4352; fax: 360-828-4309.

STATUS: The executive session will be closed to the public in accordance with the provisions of the Government in the Sunshine Act (5 U.S.C. 552b) and applicable regulations. The session will be for internal discussions of process, personnel, and the budget of the Commission. All other portions of the meeting will be open to the public. Public participation will be allowed as time permits and as determined to be desirable by the Chairman.

MATTERS TO BE CONSIDERED: The Commission and Committee will meet in public session to discuss a broad range of marine ecosystem and marine mammal matters. While subject to change, major issues that the Commission plans to consider at the meeting include the status and trends of West Coast ecosystems, the status of mammal stocks on the West Coast, impacts of growing pinniped populations, possible resumption of whaling activities by the Makah Tribe, research related to the tuna-dolphin issue in the eastern tropical Pacific Ocean, and conservation of certain marine mammal species, including northern and southern sea otters and southern resident killer whales.

CONTACT PERSON FOR MORE INFORMATION: Suzanne Montgomery, Special Assistant to the Executive Director, Marine Mammal Commission, 4340 East-West Highway, Room 905, Bethesda, MD 20814, 301-504-0087; e-mail: smontgomery@mmc.gov.

Dated: July 25, 2007.
Timothy J. Ragen,
Executive Director.

[FR Doc. 07-3703 Filed 7-25-07; 1:25 pm]

BILLING CODE 6820-31-M